SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, 44 U.S.C Chapter 35 requires federal agencies to publish a notice in the Federal Register concerning each proposed collection of information before submission to OMB, and to allow 60 days for public comment in response to the notice. This notice complies with that requirement.

DATES: Submit comments on or before April 14, 2014.

ADDRESSES: Send all comments to Meghan Milloy, Presidential Management Fellow, Office of 7(a) Policy and Programs, Small Business Administration, 409 3rd Street SW., 8th Floor, Washington, DC 20416.

FOR FURTHER INFORMATION CONTACT: Meghan Milloy, Presidential Management Fellow, 202-619-1654 meghan.milloy@sba.gov Curtis B. Rich, Management Analyst, 202-205-7030 curtis.rich@sba.gov.

SUPPLEMENTARY INFORMATION: Section 13 of the Small Business Act (15 U.S.C. 642) requires that the owners, partners or officers of a small business receiving a business loan guaranteed by SBA (“Applicant”) to identify the names of persons engaged by or on behalf of the Applicant for the purpose of facilitating the application and report the fees paid or to be paid to any such person. SBA regulations at 13 CFR 103.5 require any Agent to execute and provide to SBA a compensation agreement showing the compensation charged for services rendered or to be rendered to the Applicant or lender in any matter involving SBA assistance. ”Agent” is an authorized representative, including an attorney, accountant, consultant, packager, lender service provider, or any other person representing an applicant or participant by conducting business with SBA. (13 CFR Part 103 and sections 120.221 and 120.222 contain rules governing compensation of Agents in connection with a 7(a) loan. These rules may be found at the code of federal regulations Web site, http://www.e-cfr.gov.

Title: “Compensation Agreement”.

Form Number's: 159(7a), 159(504), 159D.

Annual Responses: 9,210.

Annual Burden: 1,385.

Curtis Rich,
Management Analyst.

[FR Doc. 2014-02892 Filed 2-10-14; 8:45 am]

BILLING CODE 8025-01-P